ENVIRONMENTAL PROTECTION AGENCY

[CA089-NOT; FRL-7489-2]

Adequacy Status of the San Diego County, California Submitted 1-Hour Ozone Redesignation to Attainment and Maintenance Plan for Transportation Conformity Purposes

AGENCY: Environmental Protection Agency (EPA).

ACTION: Notice of adequacy determination.

SUMMARY: In this notice, EPA is notifying the public that we have found that the motor vehicle emissions budgets contained in the submitted San Diego County, California serious 1-hour ozone nonattainment area redesignation request and maintemance plan are adequate for transportation conformity purposes. As a result of our finding, the San Diego Association of Governments (SANDAG), the Federal Highway Administration and the Federal Transit Authority must use the VOC and NOX motor vehicle emissions budgets from the submitted plan for future conformity determinations.

DATES: This determination is effective May 14, 2003.

FOR FURTHER INFORMATION CONTACT: The finding is available at EPA's conformity Web site: http://www.epa.gov/oms/traq. Once there, go to “Transportation Conformity,” then select “Adequacy Web Pages.” You may also contact John Kelly, U.S. EPA, Region IX, Air Division, AIR-2, 75 Hawthorne Street, San Francisco, CA 94105; (415) 947-4151 or kelly.johnj@epa.gov.

SUPPLEMENTARY INFORMATION:

Background

This notice announces our finding that the emissions budgets contained in the Ozone Redesignation Request and Maintenance Plan for San Diego County, submitted by the California Air Resources Board (CARB) on December 20, 2002, are adequate for transportation conformity purposes. EPA Region IX made this finding in a letter to CARB on April 9, 2003. We are also announcing this finding on our conformity Web site: http://www.epa.gov/oms/traq. Once there, go to “Transportation Conformity,” then select “Adequacy Web Pages.”

Transportation conformity is required by section 176(c) of the Clean Air Act. Our conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). One of these criteria is that the plan provide for maintenance of the relevant ambient air quality standard. We have preliminarily determined that the San Diego County 1-hour ozone maintenance plan does provide for maintenance of the 1-hour ozone standards and, therefore, can be found adequate.

We have described our process for determining the adequacy of submitted SIP budgets in guidance (May 14, 1999 memo titled “Conformity Guidance on Implementation of March 2, 1999 Conformity Court Decision”). We followed this guidance in making our adequacy determination on the emissions budgets contained in the San Diego County 1-hour ozone maintenance plan.

Authority: 42 U.S.C. 7401-7671 q.

Dated: April 21, 2003.
Alexis Strauss,
Regional Administrator, Region IX.

[FR Doc. 03-10549 Filed 4-28-03; 8:45 am]

BILLING CODE 6560-50-P